DEPARTMENT OF JUSTICE

Antitrust Division

Notice Pursuant to the National Cooperative Research and Production Act of 1993—ODVA, Inc.

Notice is hereby given that, on September 25, 2013, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances.

Specifically, Rice Lake Weighing Systems, Inc., Rice Lake, WI; Halstrup-Walcher GmbH, Kirchzarten, GERMANY; Imperx, Inc., Boca Raton, FL; Wittenstein AG; Igersheim, GERMANY; Canrig Drilling Technologies, Ltd., Houston, TX; Schenck Process, Darmstadt, GERMANY; Badger Meter, Inc., Milwaukee, WI: wenglor sensoric gmbh, Tettnang, GERMANY; EUCHNER GmbH + Co., KG, Leinfelden-Echterdingen, GERMANY; Systeme Helmholz GmbH, Grossenseebach, GERMANY; C.E. Electronics, Inc., Bryan, OH; CTH Systems Inc., Calgary, CANADA; and Mecco Partners, LLC, Cranberry Township, PA, have been added as parties to this venture.

Also, Amphenol Sine Systems Corporation, Clinton Township, MI; Sanyo Machine Works, Ltd., Nishikasugai-gun, Aichi, JAPAN; Camozzi SpA, Brescia, ITALY; Racine Federated, Inc., Milwaukee, WI; Flowserve Corporation, Lynchburg, VA; MORI SEIKI CO., LTD, and Nagoya City, Aichi, JAPAN, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on June 13, 2013. A notice was published in the Federal Register pursuant to Section 6(b) of the Act on July 18, 2013 (78 FR 42975).

Patricia A. Brink,
Director of Civil Enforcement, Antitrust Division.

[FR Doc. 2013-26975 Filed 11-8-13; 8:45 am]

BILLING CODE 4410-11-P